FEDERAL COMMUNICATIONS COMMISSION

[DA 06-922]

Annual Adjustment of Revenue Thresholds

AGENCY: Federal Communications Commission.

ACTION: Notice.

SUMMARY: This document announces that the 2005 revenue threshold between Class A carriers and Class B carriers is increased to $129 million. The 2005 revenue threshold between larger Class A carriers and mid-sized carriers is increased to $7.668 billion.

FOR FURTHER INFORMATION CONTACT: Debbie Weber, Pricing Policy Division, Wireline Competition Bureau at (202) 418-0812.

SUPPLEMENTARY INFORMATION: This is a summary of the Commission's public notice released April 24, 2006. This notice announces the inflation-adjusted 2005 revenue thresholds used for classifying carrier categories for various accounting and reporting purposes: (1) Distinguishing Class A carriers from Class B carriers; and (2) distinguishing larger Class A carriers from mid-sized carriers. The revenue threshold between Class A carriers and Class B carriers is increased to $129 million. The revenue threshold between larger Class A carriers and mid-sized carriers is increased to $7.668 billion. The revenue thresholds for 2005 were determined as follows:

| Mid-sized threshold | Larger Class A threshold
(1) GDP-CPI Base | 86.68 | 102.40
(2) 2005 GDP-CPI | 112.18 | 112.18
(3) Inflation Factor (line 2 ÷ 1) | 1.2914 | 1.0954
(4) Original Revenue Threshold | $100 million | $7 billion.
(5) 2005 Revenue Threshold (line 3 * 4) | $129 million | $7.668 billion.

Federal Communications Commission
Tamara L. Preiss,
Chief, Pricing Policy Division, Wireline Competition Bureau.

[FR Doc. E6-6700 Filed 5-2-06; 8:45 am]

BILLING CODE 6712-01-P